DEPARTMENT OF TRANSPORTATION

Federal Aviation Administration

14 CFR Part 39

[Docket No. FAA-2022-0683; Project Identifier MCAI-2022-00631-Q; Amendment 39-22089; AD 2022-13-03]

RIN 2120-AA64

Airworthiness Directives; Cameron Balloons Ltd. Fuel Cylinders

AGENCY: Federal Aviation Administration (FAA), DOT.

ACTION: Final rule; request for comments.

SUMMARY: The FAA is adopting a new airworthiness directive (AD) for certain Cameron Balloons Ltd. (Cameron) fuel cylinders installed on hot air balloons. This AD results from mandatory continuing airworthiness information (MCAI) originated by an aviation authority of another country to identify and correct an unsafe condition on an aviation product. The MCAI identifies the unsafe condition as cracks in the weld between the cylinder valve plate and the upper dished end of Cameron part number (P/N) CB2990 (Alugas) fuel cylinders, which could allow uncontrolled fuel leakage of liquid propane. This AD requires the removal of any installed P/N CB2990 (Alugas) fuel cylinder from service before further flight. The FAA is issuing this AD to address the unsafe condition on these products.

DATES: This AD is effective June 30, 2022.

The FAA must receive comments on this AD by August 1, 2022.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact Cameron Balloons Ltd., St Johns Street, Bedminster, Bristol, BS3 4NH, United Kingdom; phone: +44 0 117 9637216; email: technical@cameronballoons.co.uk; website: www.cameronballoons.co.uk. You may view this service information at the FAA, Airworthiness Products Section, Operational Safety Branch, 901 Locust, Kansas City, MO 64106. For information on the availability of this material at the FAA, call (817) 222-5110.

Examining the AD Docket

You may examine the AD docket at https://www.regulations.gov by searching for and locating Docket No. FAA-2022-0683; or in person at Docket Operations between 9 a.m. and 5 p.m., Monday through Friday, except Federal holidays. The AD docket contains this final rule, the MCAI, any comments received, and other information. The street address for the Docket Operations is listed above.

FOR FURTHER INFORMATION CONTACT: Mike Kiesov, Aviation Safety Engineer, FAA, General Aviation & Rotorcraft Section, International Validation Branch, 901 Locust, Room 301, Kansas City, MO 64106; phone: (816) 329-4144; email: mike.kiesov@faa.gov.

SUPPLEMENTARY INFORMATION:

Background

The Civil Aviation Authority (CAA), which is the airworthiness authority for the United Kingdom (UK), has issued CAA Emergency AD G-2022-0010-E, dated May 12, 2022 (referred to after this as “the MCAI”), to address an unsafe condition for certain Cameron fuel cylinders. The MCAI states:

Five CB2990 (Alugas) cylinders have developed cracks in the weld between the cylinder valve plate and the upper dished end. These cracks allow the release of propane from the cylinder. Failures have been observed during periodic inspection (hydraulic pressure test) and leak test. All the in-service failures seen to date have been from the batch of cylinders with serial numbers starting OC.

It is likely that other CB2990 cylinders may develop similar failures in service.

To address this potential unsafe condition this [UK CAA Emergency AD] * * * is issued to temporarily withdraw all CB2990 (Alugas) cylinders from service pending investigation of these failures.

Cameron Balloons are working urgently with the original fabricator to determine the cause and scope of these failures.

You may examine the MCAI in the AD docket at https://www.regulations.gov by searching for and locating Docket No. FAA-2022-0683.

This condition, if not addressed, could lead to fire or explosion and consequent emergency landing. The FAA is issuing this AD to address the unsafe condition on these products.

Related Service Information

The FAA reviewed Cameron Balloons Alert Service Bulletin No. 33, Revision 0, dated May 4, 2022, which specifies procedures for checking the interface between the cylinder valve plate and the upper dished end of fuel cylinders having P/N CB2990 (Alugas) using leak detector fluid and emptying the fuel.

FAA's Determination

This product has been approved by the aviation authority of another country and is approved for operation in the United States. Pursuant to the FAA's bilateral agreement with this State of Design Authority, it has notified the FAA of the unsafe condition described in the MCAI and service information referenced above. The FAA is issuing this AD after determining the unsafe condition is likely to exist or develop in other products of the same type design.

AD Requirements

This AD requires, before further flight, removal from service of any installed P/N CB2990 (Alugas) fuel cylinder.

Difference Between This AD and the MCAI

The MCAI applies to hot air balloons and certain airships. This AD only applies to hot air balloons because the airships identified in the MCAI do not have an FAA type certificate.

Although the MCAI specifies inspecting the fuel cylinders for leaks and emptying the fuel, this AD does not require those actions. While those actions are encouraged for the general safety related to the leakage of liquid propane from these fuel cylinders once they have been removed from the balloon, those actions are not required to address the unsafe condition identified in this AD.

Interim Action

The FAA considers this AD to be an interim action. If additional data is received by the UK CAA enabling the development of an inspection of the affected fuel cylinders, the FAA may take further rulemaking action.

FAA's Justification and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies waiving notice and comment prior to adoption of this rule because a liquid propane leak on the fuel cylinder could lead to an in-flight fire or explosion, damaging the hot air balloon and leading to a forced emergency landing, which could injure balloon occupants and persons on the ground. Additionally, the corrective actions must be accomplished before further flight. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forego notice and comment.

Comments Invited

The FAA invites you to send any written data, views, or arguments about this final rule. Send your comments to an address listed under ADDRESSES. Include “Docket No. FAA-2022-0683 and Project Identifier MCAI-2022-00631-Q” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Mike Kiesov, Aviation Safety Engineer, FAA, General Aviation & Rotorcraft Section, International Validation Branch, 901 Locust, Room 301, Kansas City, MO 64106. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Costs of Compliance

The FAA estimates that this AD affects 696 fuel cylinders installed on hot air balloons worldwide. The FAA has no way of knowing the number of hot air balloons of U.S. Registry that may have an affected fuel cylinder installed. The estimated cost on U.S. operators reflects the maximum possible cost based on fuel cylinders worldwide. The average labor rate is $85 per work-hour.

The FAA estimates that removing the affected fuel cylinder will take 1 work-hour costing $85, for a cost of up to $59,160 for the U.S. fleet. The FAA estimates that installing a non-affected fuel cylinder will take 1 work-hour costing $85 and will cost $3,200 per fuel cylinder, for a cost of up to $2,286,360 for the U.S. fleet.

Authority for This Rulemaking

Title 49 of the United States Code specifies the FAA's authority to issue rules on aviation safety. Subtitle I, section 106, describes the authority of the FAA Administrator. “Subtitle VII: Aviation Programs” describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-13-03 Cameron Balloons Ltd.: Amendment 39-22089; Docket No. FAA-2022-0683; Project Identifier MCAI-2022-00631-Q.

(a) Effective Date

This airworthiness directive (AD) is effective June 30, 2022.

(b) Affected ADs

None.

(c) Applicability

(1) This AD applies to hot air balloons, certificated in any category, equipped with a Cameron Balloons Ltd. part number (P/N) CB2990 (Alugas) fuel cylinder (the affected fuel cylinder).

(2) The affected fuel cylinder may be installed on hot air balloon models including, but not limited to, those of the following design approval holders:

(i) Aerostar International, Inc.;

(ii) Ballonbau Worner GmbH;

(iii) Balóny Kubíček spol. s.r.o.;

(iv) Cameron Balloons Ltd.;

(v) Eagle Balloons Corp.;

(vi) JR Aerosports, Ltd. (type certificate previously held by Sundance Balloons (US));

(vii) Lindstrand Balloons Ltd.; and

(viii) Michael D. McGrath (type certificate subsequently transferred to Andrew Philip Richardson, Adams Aerostats LLC).

(d) Subject

Joint Aircraft System Component (JASC) Code 2810, Fuel Storage.

(e) Unsafe Condition

This AD was prompted by mandatory continuing airworthiness information (MCAI) originated by an aviation authority of another country to identify and correct an unsafe condition on an aviation product. The MCAI identifies the unsafe condition as cracks in the weld between the cylinder valve plate and the upper dished end of Cameron Balloons Ltd. P/N CB2990 (Alugas) fuel cylinders. The FAA is issuing this AD to prevent uncontrolled fuel leakage of liquid propane. The unsafe condition, if not addressed, could lead to fire or explosion and consequent emergency landing.

(f) Compliance

Comply with this AD within the compliance times specified, unless already done.

(g) Actions

Before further flight after the effective date of this AD, remove the affected fuel cylinder from service.

Note 1 to paragraph (g): Cameron Balloons Alert Service Bulletin No. 33, Revision 0, dated May 4, 2022, provides procedures for doing a leak check and emptying fuel from the Cameron P/N CB2990 (Alugas) fuel cylinder to render it safe for storage following the removal from service. These actions are not required by this AD.

(h) Special Flight Permit

Special flight permits are prohibited.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j)(1) of this AD and email to: 9-AVS-AIR-730-AMOC@faa.gov.

(2) Before using any approved AMOC, notify your appropriate principal inspector, or lacking a principal inspector, the manager of the local flight standards district office/certificate holding district office.

(j) Related Information

(1) For more information about this AD, contact Mike Kiesov, Aviation Safety Engineer, FAA, General Aviation & Rotorcraft Section, International Validation Branch, 901 Locust, Room 301, Kansas City, MO 64106; phone: (816) 329-4144; email: mike.kiesov@faa.gov.

(2) Refer to United Kingdom (UK) Civil Aviation Authority (CAA) Emergency AD G-2022-0010-E, dated May 12, 2022, for more information. You may examine the UK CAA AD in the AD docket at https://www.regulations.gov by searching for and locating Docket No. FAA-2022-0683.

(3) For service information identified in this AD that is not incorporated by reference, contact Camron Balloons Ltd., St John Street, Bedminster, Bristol, BS3 4NH, United Kingdom; phone: +44 0 117 9637216; email: technical@cameronballoons.co.uk; website: www.cameronballoons.co.uk.

(k) Material Incorporated by Reference

None.

Issued on June 10, 2022.
Christina Underwood,
Acting Director, Compliance & Airworthiness Division, Aircraft Certification Service.

[FR Doc. 2022-12969 Filed 6-13-22; 11:15 am]

BILLING CODE 4910-13-P